DEPARTMENT OF JUSTICE

Antitrust Division

Notice Pursuant to the National Cooperative Research and Production Act of 1993—The Open Group, L.L.C.

Notice is hereby given that, on June 29, 2023, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, ABAI Business Solutions, S.A.U., Madrid, SPAIN; ANELLO Photonics Inc., Santa Clara, CA; Autonomous Defense Technologies Corp., New York, NY; CascadeIT-Dr Helmut Steigele, Zürich, SWITZERLAND; Department of National Defence/Ministère de la Défense National, Ottawa, CANADA; Dr. Jürgen Grötsch, Friedrich-Alexander Universität, Erlangen, GERMANY; E-Panzer Security Consulting, Inc., Southlake, TX; Gainwell Technologies LLC, Conway, AR; Galois, Inc., Portland, OR; Grupo Magnus SAS, Bogota, COLOMBIA; HII Mission Technologies Corp., Syracuse, NY; INEOS Offshore BCS Limited, London, UNITED KINGDOM; Innovation Technical Solutions, Muscat, OMAN; Intellisense Systems, Inc., Torrance, CA; Keystone.no AS, Stavanger, NORWAY; Kognitus Tecnologia, Consultoria e Serviços Ltda, Rio de Janeiro, BRAZIL; Moog, Inc., New York, NY; Nozom Alkhebrat Information Technology Company, Riyadh, SAUDI ARABIA; Phoenix International Systems, Inc., Orange, CA; Rapita Systems Ltd, York, UNITED KINGDOM; Revo Testing Technologies LLC, Houston, TX; Silixa Ltd, Elstree, UNITED KINGDOM; Spinning Yarns Ltd, Edinburgh, UNITED KINGDOM; State Bank of India, Navi Mumbai, INDIA, Tesserent Academy dba ALC Training, Box Hill, AUSTRALIA; Tieto Sweden AB, Solna, SWEDEN; US Army PEO C3T, Aberdeen Proving Ground, MD and Whitson AS Trondheim, NORWAY have been added as parties to this venture.

Also, Abaco Systems, Inc., Huntsville, AL; Abiztar Learning Technologies, S.C, Tlalpan, MEXICO; Adventium Enterprises LLC dba Adventium Labs, Minneapolis, MN; Area-I Inc., Kennesaw, GA; aRway AB, Stockholm, SWEDEN; Avancier Limited, New Malden, UNITED KINGDOM; Beeond, Inc., New Bern, NC; Coherent Technical Services Inc. (CTSI), Lexington Park, MD; Core Laboratories LP, Houston, TX; Deloitte Consulting, LLP, Atlanta, GA; E-Careers/Miltech Limited, Langley, UNITED KINGDOM; LNS Research, Cambridge. MA; Mi4 Corporation, Houston, TX; NETGEOMETRY SDN. BHD., Selangor, MALAYSIA; NICON Company, Seoul, REPUBLIC OF KOREA; OhioHealth Corporation, Dublin, OH; Performance Software, Clearwater, FL; QPR Software Plc, Helsinki, FINLAND; Real-Time Innovations, Inc., Sunnyvale, CA; Royal Philips N.V., Eindhoven, THE NETHERLANDS; SAP, Newton Square, PA; Shared Spectrum Company, Vienna, VA; Solvera Solutions, Regina, CANADA; Spirent Federal Systems Inc., Pleasant Grove, UT; TOTAL SA, Paris La Defense Cedex, FRANCE; Trenton Systems, Inc., Lawrenceville, GA; TTTech Industrial Automation AG, Vienna, AUSTRIA; and University of Houston, Houston, TX have withdrawn as parties to this venture.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on February 28, 2023. A notice was published in the Federal Register pursuant to section 6(b) of the Act on March 27, 2023 (88 FR 18180).

Suzanne Morris,
Deputy Director Civil Enforcement Operations, Antitrust Division.

[FR Doc. 2023-18090 Filed 8-22-23; 8:45 am]

BILLING CODE P